DEPARTMENT OF LABOR

Office of the Secretary

Submission for OMB Review: Comment Request

October 26, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comment to the Office of Information and Regulatory Affairs, Attn: John Kraemer, OMB Desk Officer for the Mine Safety and Health Administration (MSHA), Office of Management and Budget, 725 17th Street, NW., Room 10235, Washington, DC 20503, Telephone: 202-395-4816/Fax: 202-395-6974 (these are not toll-free numbers), e-mail: John_Kraemer@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Radiation Sampling and Exposure Records.

OMB Control Number: 1219-0003.

Form Number: MSHA Form 4000-9.

Estimated Number of Respondents: 2.

Estimated Total Annual Burden Hours: 800.

Estimated Total Annual Cost Burden: $0.

Affected Public: Private Sector: Business or other for-profit (Mines).

Description: Title 30 CFR 57.5040 requires mine operators to calculate, record and report individual exposures to concentrations of radon daughters. The calculations are based on the results of the weekly sampling required by 30 CFR 57.5037. Records are maintained by the operator and are submitted to MSHA annually. The sampling and recordkeeping requirement alerts the mine operator and MSHA to possible failure in the radon daughter control system, and permits appropriate corrective action to be taken in a timely manner. Data submitted to MSHA (on MSHA Form 4000-9, Record of Individual Exposure to Radon Daughters) is intended to: (a) Establish a means by which MSHA can assure compliance with underground radiation standards; (b) form a data base of miner exposure for future epidemiological studies; and (c) assure that miners can, upon written request, have records of cumulative exposures made available to them or their estate, and to medical and legal representatives who have obtained written authorization.

Agency: Mine Safety and Health Administration.

Type of Review: Extension without change of currently approved collection.

Title: Training Plan Regulations and Certificate of Training.

OMB Number: 1219-0009.

Form Number: MSHA Form 5000-23.

Estimated Number of Respondents: 3,216.

Estimated Total Annual Burden Hours: 19,186.

Estimated Total Annual Cost Burden: $245,144.

Affected Public: Private Sector: Business or other for-profit (Mines).

Description: Title 30, CFR 48.9 and 48.29 require records of training for underground and surface mines, respectively. Upon completion of each training program, the mine operator certifies on a form approved by the Secretary (MSHA Form 5000-23) that the miner has received the specified training in each subject area of the approved health and safety training plan. Upon approval by the MSHA District Manager, training plans are returned to the mine operator. The approved plans are used to implement training programs for training new miners, training experienced miners, training miners for new tasks, annual refresher training, and hazard training. The plans are also used by MSHA to ensure that all miners are receiving the training necessary to perform their jobs in a safe manner.

In summary, the Form 5000-23 provides the mine operator with a recordkeeping form, the miner with a certificate of training, and MSHA with a monitoring tool for determining compliance requirements. The form in its present format provides the industry with one form that complies with all the requirements of the training regulations.

Darrin A. King,
Acting Departmental Clearance Officer.

[FR Doc. E7-21419 Filed 10-30-07; 8:45 am]

BILLING CODE 4510-43-P